DEPARTMENT OF THE INTERIOR

Bureau of Land Management

[LLWO3200000.L13300000.PO0000; OMB Control Number 1004-0103]

Renewal of Approved Information Collection

AGENCY: Bureau of Land Management, Interior.

ACTION: 30-day notice and request for comments.

SUMMARY: The Bureau of Land Management (BLM) has submitted an information collection request to the Office of Management and Budget (OMB) to continue the collection of information from those who seek to obtain mineral materials from public lands. OMB has assigned control number 1004-0103 to this collection.

DATES: The OMB is required to respond to this information collection request within 60 days but may respond after 30 days. For maximum consideration written comments should be received on or before October 14, 2014.

ADDRESSES: Please submit comments directly to the Desk Officer for the Department of the Interior (OMB #1004-0103), Office of Management and Budget, Office of Information and Regulatory Affairs, fax 202-395-5806, or by electronic mail at OIRA_submission@omb.eop.gov. Please provide a copy of your comments to the BLM via mail, fax, or electronic mail.

Mail: U.S. Department of the Interior, Bureau of Land Management,1849 C Street NW., Room 2134LM, Attention: Jean Sonneman, Washington, DC 20240.

Fax: To Jean Sonneman at 202-245-0050.

Electronic mail: Jean_Sonneman@blm.gov.

Please indicate “Attn: 1004-0103” regardless of the form of your comments.

FOR FURTHER INFORMATION CONTACT: George Brown, Division of Solid Minerals, at 202-912-7118. Persons who use a telecommunication device for the deaf (TDD) may call the Federal Information Relay Service (FIRS) on 1-800-877-8339, to leave a message for Mr. Brown. You may also review the information collection request online at http://www.reginfo.gov/public/do/PRAMain.

SUPPLEMENTARY INFORMATION: The Paperwork Reduction Act (44 U.S.C. 3501-3521) and OMB regulations at 5 CFR 1320 provide that an agency may not conduct or sponsor a collection of information unless it displays a currently valid OMB control number. Until the OMB approves a collection of information, you are not obligated to respond. OMB regulations at 5 CFR 1320.8(d) and 1320.12(a) require Federal agencies to seek public comment on information collection and recordkeeping activities.

As required at 5 CFR 1320.8(d), the BLM published a 60-day notice in the Federal Register on April 14, 2014 (79 FR 18309) and the comment period closed on June 2, 2014. The BLM received one public comment. The comment was a general invective about the Federal government, the Department of the Interior, the BLM, and Federal employees. It did not address, and was not germane to, this information collection. Therefore, we have not changed the collection in response to the comment.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES. Please refer to OMB Control Number 1004-0103 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Mineral Materials Disposal (43 CFR part 3600).

OMB Control Number: 1004-0103.

Type of Review: Extension of a currently approved information collection.

Abstract: The Mineral Materials Act, 30 U.S. C. 601 and 602, authorizes disposals of mineral materials (such as sand, gravel, and petrified wood) from public lands. This information collection request pertains to mineral sales contracts in accordance with regulations at 43 CFR part 3600. Form 3600-9 (Contract for the Sale of Mineral Materials) is the only form currently approved by OMB under control number 1004-0103.

Frequency of Collection: On occasion. Responses are required in order to obtain or retain a benefit.

Form:

• Form 3600-9, Contract for the Exclusive Sale of Mineral Materials.

Estimated Annual Burden Hours: 19,714.

Estimated Annual Responses: 3,105.

Estimated Annual Non-hour Burden Cost: $104,345.

The estimated burdens are itemized in the following table:

Type of response | Number of responses | Time per response | Total hours (column B × column C)
A. | B. | C. | D.
Pre-Application Sampling and Testing 43 CFR 3601.30 | 30 | 30 minutes | 15
Request for Sale Not Within a Community Pit or Common Use Area 43 CFR 3602.11 | 205 | 30 minutes | 103
Request for Sale Within a Community Pit or Common Use Area 43 CFR 3602.11 | 360 | 30 minutes | 180
Mining and Reclamation Plans (Simple) 43 CFR 3601.40 | 200 | 2 hours | 400
Mining and Reclamation Plans (Complex) 43 CFR 3601.40 | 50 | 30 hours | 1,500
Contract for the Sale of Mineral Materials 43 CFR subpart 3602 Form 3600-9 | 565 | 30 minutes | 283
Performance Bond 43 CFR 3602.14 | 565 | 30 minutes | 283
Payments 43 CFR 3602.21 and 3602.29 | 565 | 15 hours | 8,475
Records Maintenance 43 CFR 3602.28 | 565 | 15 hours | 8,475
Totals | 3,105 |  | 19,714

Jean Sonneman,
Bureau of Land Management, Information Collection Clearance Officer.

[FR Doc. 2014-21684 Filed 9-10-14; 8:45 am]

BILLING CODE 4310-84-P